DEPARTMENT OF THE INTERIOR

National Park Service

Valley Forge National Historical Park General Management Plan, Environmental Impact Statement

AGENCY: National Park Service, Department of the Interior

ACTION: Notice of Intent to prepare an Environmental Impact Statement for the Valley Forge National Historical Park General Management Plan.

SUMMARY: Under the provisions of the National Environmental Policy Act, the National Park Service is preparing an Environmental Impact Statement for the Valley Forge National Historical Park General Management Plan. This Environmental Impact Statement will be approved by the Northeast Regional Director.

Valley Forge National Historical Park was authorized by Congress, Public Law 94-337, on July 4, 1976. As required, a General Management Plan was prepared and released in September 1982. NPS policy requires that such plans be prepared every 15-20 years. The 1982 plan has numerous deficiencies and left the park without appropriate management tools for resources and recreational use.

The park lies at the center of the wealthiest and most urbanized region of Pennsylvania, just beyond Philadelphia. Its visitation is mostly regional, and it is treasured more as an outstanding recreational and open space resource than as a cultural resource. Its 3400 acres lie in two counties and five municipalities; each jurisdiction has a distinct governance, planning, and zoning structure. The GMP process will begin in FY 02. It will address the following:

• The public's lack of understanding and appreciation for the cultural resources and values of the park, and of the park's mission;

• The need for consensus on defining and managing recreational use in the park;

• A strategic approach to management of the park's cultural resources, including landscapes, earthworks and structures:

• Mitigation of pressures on the park resources resulting from rapid residential and commercial development of areas surrounding the park; and

• Strategies for appropriate partnership opportunities that can enhance the park's visitor services.

A scoping meeting will be scheduled, and notice will be made of the meeting through a broad public mailing and publication of meeting notices in local newspapers. A newsletter introducing the project to the public will be done. Copies of the newsletter will be available by request to the Superintendent, Valley Forge National Historical Park at the phone number below or by email to VAFO_Superintendent@nps.gov.

For further information, Contact: Contact Superintendent, Valley Forge National Historical Park, 610-783-1000 or at VAFO_Superintendent@nps.gov.

Dated: January 11, 2002.
Marie Rust,
Regional Director, Northeast Region.

[FR Doc. 02-6609 Filed 3-20-02; 8:45 am]

BILLING CODE 4310-70-P